DEPARTMENT OF THE INTERIOR

Bureau of Land Management

[ID-076-2822-JL-G414]

Notice of Closure to Off-Highway Vehicle and Recreation Use

AGENCY: Bureau of Land Management, Interior.

SUMMARY: With the publication of this notice, all existing roads and trails on certain lands administered by the Bureau of Land Management (BLM) Shoshone Field Office are closed to off-highway vehicle use. These lands are also closed to camping, horseback riding and other recreational activities. The closure will remain in effect until October 1, 2003, or until such time as the authorized officer of the Shoshone Field Office determines the closure may be lifted. The closure is in accordance with 43 CFR 9268.3(d)(1). The BLM may authorize use.

This closure is a direct result of the Willow Creek Fire, which burned this area in September 2001, and of the subsequent rehabilitation efforts of the BLM. The closure will promote the reestablishment of vegetation on this site and improve the potential for recovery of wildlife habitat. The closure will also reduce the potential for erosion and noxious weed invasion.

SUPPLEMENTARY INFORMATION: The area of closure and impoundment affected by this notice is the burned portion of BLM lands (approximately 7233 acres more or less), specifically described wholly or partially:

Boise Meridian

T. 1 N., R. 16 E.,

Sec. 1, 2, 3, 4, 5, 6, 8, 9, 10, 11, 14, 18, 19, 20, 21, 22, 23, 26, 27, 28, 31, 35; and

T. 2 N., R. 16 E.,

Sec. 25, 26, 32, 33, 34, and 35.

Detailed maps of the area closed to OHV and recreational use are available at the Shoshone Field Office at the address below.

FOR FURTHER INFORMATION CONTACT: The BLM Shoshone Field Office, 400 West F Street, Shoshone, ID 83352.

Dated: July 9, 2002.
Bill Baker,
Shoshone Field Manager.

[FR Doc. 02-23044 Filed 9-10-02; 8:45 am]

BILLING CODE 4310-GG-P